DEPARTMENT OF HEALTH AND HUMAN SERVICES

Centers for Disease Control and Prevention

[60Day-04-19]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-E11, Atlanta, GA 30333. Written comments should be received within 60 days of this notice.

Proposed Project: HIV/AIDS Prevention and Surveillance Project Reports, OMB No. 0920-0208—Extension—National Center for HIV, STD and TB Prevention (NCHSTP), Centers for Disease Control and Prevention (CDC).

CDC is requesting to extend the use of the currently approved form, OMB No. 0920-0208, for collecting HIV counseling, testing, and referral (CTR) program data. This current form expires March 30, 2004. This request is for an 18-month clearance past this date. Extension of the current form will allow grantees to continue to collect CTR data as they transition to the new set of CTR variables and the new program evaluation and monitoring system (PEMS). Over the next year, grantees will either transition to the new variables once they have reprogrammed their existing computer systems, or as the CDC-provided PEMS is made available. CDC funds cooperative agreements for 65 HIV prevention projects (50 states, 6 cities, 7 territories, Washington, DC, and Puerto Rico) and approximately 50 community based organizations to support HIV counseling, testing, and referral programs.

HIV counseling, testing, and referral services in STD clinics, women's health centers, drug treatment centers, and other health facilities have been described as a primary prevention strategy of the national HIV prevention program. The funded public health departments and community based organizations have increased the provision of HIV counseling, testing, and referral activities to those at increased risk for acquiring or transmitting HIV, as well as minority communities and women of child bearing age.

CDC is responsible for monitoring and evaluating HIV prevention programs conducted under HIV prevention cooperative agreements. HIV counseling, testing, and referral services are a vital component of HIV prevention programs. Without data to monitor and evaluate the impact of HIV counseling, testing, and referral programs, HIV prevention program priorities cannot be assessed and improved to prevent further spread of the epidemic. CDC needs minimal core data from all grantees describing CTR services provided for at-risk persons. Until grantees are prepared for collecting the new CTR variables and reporting data electronically through PEMS, it is essential that they be allowed to continue to collect the current CTR data using the existing forms.

Completing the initial data submission will take approximately 5 minutes per form. Approximately two (2) million records annually are expected from over 11,000 directly and indirectly funded grantee facilities. The total estimated burden is 167,000 hours annually. This is the estimated burden if no one transitions to the new system during the year, but it is expected that many of the grantees will transition to PEMS in phases throughout the year. Following this notice, a separate data collection for PEMS will be submitted for public comment and will include the revised CTR data variables and associated burden estimate. There is no cost to respondents.

Respondents | Number of respondents | Number of responses/respondent | Average burden/response (in hours) | Total burden (in hours)
Directly or Indirectly Funded Facilities | 11,000 | 182 | 5/60 | 167,000
Total |  |  |  | 167,000

Dated: December 22, 2003.
Ron Ergle,
Acting Director, Management Analysis and Services Office, Centers for Disease Control and Prevention.

[FR Doc. 03-32166 Filed 12-30-03; 8:45 am]

BILLING CODE 4163-18-P